DEPARTMENT OF THE INTERIOR

Bureau of Land Management

[LLWY-957400-10-L14200000-BJ0000]

Filing of Plats of Survey, WY

AGENCY: Bureau of Land Management, Interior.

ACTION: Notice.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys were executed at the request of the Bureau of Land Management and U.S. Forest Service, and are necessary for the management of resources. The lands surveyed are:

The plat and field notes representing the dependent resurvey of a portion of the south and west boundaries, portions of the north boundary, and portions of the subdivisional lines, Township 54 North, Range 79 West, of the Sixth Principal Meridian, Wyoming, Group No. 791, was accepted October 9, 2009.

The supplemental plat showing a subdivision of certain sections, Township 54 North, Range 79 West, Sixth Principal Meridian, Wyoming, was accepted October 9, 2009, and is based upon the plat accepted April 20, 1949.

The plat and field notes representing the dependent resurvey of a portion of the north boundary, and the subdivisional lines, Township 18 North, Range 92 West, of the Sixth Principal Meridian, Wyoming, Group No. 792, was accepted October 9, 2009.

The plat and field notes representing the dependent resurvey of portions of the west boundary and subdivisional lines, and the subdivision of certain sections, Township 16 North, Range 86 West, of the Sixth Principal Meridian, Wyoming, Group No. 626, was accepted October 9, 2009.

The plat and field notes representing the dependent resurvey of a portion of the south boundary and subdivisional lines, and the subdivision of section 33, Township 34 North, Range 110 West, Sixth Principal Meridian, Wyoming, Group No. 726, was accepted July 9, 2009.

The plat and field notes representing the dependent resurvey of portions of the Seventh Standard Parallel North through Ranges 107 and 108 West, the Thirteenth Auxiliary Guide Meridian West through Township 28 North, between Ranges 108 and 109 West, the east boundary and the subdivisional lines, Township 28 North, Range 108 West, Sixth Principal Meridian, Wyoming, Group No. 793, was accepted January 7, 2010.

The plat and field notes representing the dependent resurvey of a portion of the Fifth Standard Parallel North through Range 102 West and a portion of the subdivisional lines, Township 20 North, Range 102 West, and the metes-and-bounds survey of Tract 37, Townships 20 and 21 North, Range 102 West, Sixth Principal Meridian, Wyoming, Group No. 800, was accepted January 7, 2010.

The supplemental plat correcting the bearing on the North and South center line of section 26 as shown on sheet 1 of 2, Township 2 North, Range 5 East, Wind River Meridian, Wyoming, was accepted January 7, 2010.

The plat and field notes representing the dependent resurvey of a portion of the adjusted meander lines of the right and left banks of the Snake River, and the survey of the riparian partition lines and a portion of the present right and left banks of the Snake River, section 26, Township 41 North, Range 117 West, Sixth Principal Meridian, Wyoming, Group No. 652, was accepted January 13, 2010.

The plat and field notes representing the dependent resurvey of a portion of the Third Standard Parallel North, through Range 77 West, and a portion of the subdivisional lines, and the subdivision of sections 22, 27 and 34, Township 13 North, Range 77 West, Sixth Principal Meridian, Wyoming, Group No. 747, was accepted January 13, 2010.

The plat and field notes representing the dependent resurvey of a portion of the east boundary, the west and north boundaries and a portion of the subdivisional lines, Township 55 North, Range 79 West, Sixth Principal Meridian, Wyoming, Group No. 790, was accepted January 13, 2010.

The supplemental plat showing a subdivision of certain sections, Township 55 North, Range 79 West, Sixth Principal Meridian, Wyoming, was accepted January 13, 2010, and is based upon the plat accepted April 20, 1949.

The plat and field notes representing the dependent resurvey of a portion of the subdivisional lines, and the subdivision of section 4, Township 12 North, Range 82 West, Sixth Principal Meridian, Wyoming, Group No. 795, was accepted January 13, 2010.

The plat and field notes representing the dependent resurvey of a portion of the Third Standard Parallel North, through Range 82 West, and a portion of the subdivisional lines, and the subdivision of section 33, Township 13 North, Range 82 West, Sixth Principal Meridian, Wyoming, Group No. 796, was accepted January 13, 2010.

The plat and field notes representing the dependent resurvey of the subdivisional lines, Township 17 North, Range 95 West, Sixth Principal Meridian, Wyoming, Group No. 797, was accepted January 13, 2010.

The plat and field notes representing the dependent resurvey of a portion of Lot 74 and a portion of the east boundary, Township 52 North, Range 94 West, Sixth Principal Meridian, Wyoming, Group No. 798, was accepted January 13, 2010.

Copies of the preceding described plats and field notes are available to the public at a cost of $1.10 per page.

Dated: February 1, 2010.
John P. Lee,
Chief Cadastral Surveyor, Division of Support Services.

[FR Doc. 2010-2597 Filed 2-5-10; 8:45 am]

BILLING CODE 4310-22-P